ADVISORY COUNCIL ON HISTORIC PRESERVATION

Notice of Advisory Council on Historic Preservation Quarterly Business Meeting

AGENCY: Advisory Council on Historic Preservation.

ACTION: Notice of Advisory Council on Historic Preservation Quarterly Business Meeting.

SUMMARY: Notice is hereby given that the Advisory Council on Historic Preservation (ACHP) will hold its next quarterly meeting on Thursday, March 22, 2018. The meeting will be held in Room SR325 at the Russell Senate Office Building at Constitution and Delaware Avenues NE, Washington, DC, starting at 8:30 a.m.

DATES: The quarterly meeting will take place on Thursday, March 22, 2018 starting at 8:30 a.m.

ADDRESSES: The meeting will be held in Room SR325 at the Russell Senate Office Building at Constitution and Delaware Avenues NE, Washington, DC.

FOR FURTHER INFORMATION CONTACT: Cindy Bienvenue, 202-517-0202, cbienvenue@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our website at www.achp.gov.

The agenda for the upcoming quarterly meeting of the ACHP is the following:

I. Chairman's Welcome

II. Transition to Full-Time ACHP Chairman

III. Section 106 Issues

A. Administration Infrastructure Initiatives

B. Proposed Exemption Regarding Railroad and Rail Transit Rights of Way

C. Federal Communications Commission and “Twilight Towers”

D. Department of Veterans Affairs Program Comment on Underutilized Properties

E. ACHP Report to the President Pursuant to Executive Order 13287

IV. Historic Preservation Policy and Programs

A. Commemorative Works Policy and Principles

B. Historic Preservation Legislation in the 115th Congress

C. Cultural Resources Fund: Ideas for the Future

D. Building a More Inclusive Preservation Program: Preservation Crafts Training

V. New Business

VI. Adjourn

The meetings of the ACHP are open to the public. If you need special accommodations due to a disability, please contact Cindy Bienvenue, 202-517-0202 or cbienvenue@achp.gov, at least seven (7) days prior to the meeting.

Authority: 54 U.S.C. 304102.

Dated: February 27, 2018.
Javier E. Marques,
General Counsel.

[FR Doc. 2018-04369 Filed 3-2-18; 8:45 am]

BILLING CODE 4310-K6-P